DEPARTMENT OF TRANSPORTATION

Federal Motor Carrier Safety Administration

[Docket No. FMCSA-2005-22728]

Notice of Request for Comments on Extension of a Currently Approved Collection of Information: Financial Responsibility, Trucking and Freight Forwarding

AGENCY: Federal Motor Carrier Safety Administration (FMCSA), DOT.

ACTION: Notice and request for comments.

SUMMARY: In accordance with the Paperwork Reduction Act of 1995 (44 U.S.C. 3501 et seq.), FMCSA announces the Information Collection Request (ICR) described below has been sent to the Office of Management and Budget (OMB) for review and approval. The ICR describes a currently approved collection activity and its expected cost and burden. The Federal Register notice allowing for a 60-day comment period on the ICR was published on June 21, 2005 (70 FR 35766). No comments were received.

DATES: Please send your comments by December 12, 2005. OMB must receive your comments by this date in order to act quickly on the ICR.

ADDRESSES: Send comments to the Office of Information and Regulatory Affairs, Office of Management and Budget, 725 Seventeenth Street, NW., Washington, DC 20503, Attention DOT/FMCSA Desk Officer.

FOR FURTHER INFORMATION CONTACT: Ms. Ruth Bullen, (202) 385-2430, Commercial Enforcement Division (MC- ECC), Office of Enforcement and Compliance, Federal Motor Carrier Safety Administration, 400 Seventh Street SW., Washington, DC 20590. Office hours are from 7 a.m. to 4:30 p.m., e.t., Monday through Friday, except federal holidays.

SUPPLEMENTARY INFORMATION: Title: Financial Responsibility, Trucking and Freight Forwarding.

OMB Control Number: 2126-0017.

Type of Request: Revision of a currently approved collection.

Background: The Secretary of Transportation (Secretary) is authorized to register for-hire motor carriers of regulated commodities under the provisions of 49 U.S.C. 13902, surface freight forwarders under 49 U.S.C. 13903, and property brokers under 49 U.S.C. 13904. These persons may conduct transportation services only if they are registered pursuant to 49 U.S.C. 13901. The Secretary has delegated authority pertaining to these registrations to FMCSA. Registration remains valid only as long as the transportation entities maintain on file with FMCSA evidence of the required levels of insurance coverage pursuant to 49 U.S.C. 13906. Regulations governing financial responsibility are contained in 49 CFR part 387.

Forms BMC-91, 91X, and 82 provide evidence of the required coverage for bodily injury and property damage (BI&PD) liability. Forms BMC-34 and 83 establish compliance with cargo liability requirements. Forms BMC-84 and 85 are filed by brokers to comply with the requirement for a $10,000 surety bond or trust fund agreement. Forms BMC-35, 36, and 85 are used to cancel prior filings. Forms BMC-90 and 32 are endorsements that must be attached to BI&PD and cargo insurance policies, respectively, but are not filed with the FMCSA.

Motor carriers can also apply to self-insure BI&PD and/or cargo liability in lieu of filing certificates of insurance or surety bonds with the FMCSA. Form BMC-40 is the application used to apply for self-insurance authority.

Respondents: Motor carriers, freight forwarders, and brokers.

Estimated Number of Respondents: 165,954.

Frequency of Response: On occasion.

Average Burden Per Response: For Form BMC-40, the estimated average burden per response is 40 hours. For each of the other forms (BMC-32, 34, 35, 36, 82, 83, 84, 85, 90, 91, and 91X), the estimated average burden per response is 10 minutes per form.

Estimated Total Annual Burden: The estimated total annual burden is 600 hours for the BMC-40 based on 15 filings per year [15 filings per year x 40 hours to complete = 600 hours]. The estimated total annual burden for all other forms described above is 50,170 hours based on 301,022 filings per year [301,022 filings per year x 10 minutes to complete divided by 60 minutes = 50,170 total burden hours]. Therefore, the estimated annual burden hours for the ICR is 50,770 total burden hours.

We particularly request comments on: Whether the collection of information is necessary for FMCSA to meet its goal of reducing truck crashes and its usefulness to this goal; the accuracy of the estimate of the burden of the information collection; ways to enhance the quality, utility and clarity of the information collected; and ways to minimize the burden of the collection of information on respondents, including using automated collection techniques or other forms of information technology.

Authority: The Paperwork Reduction Act of 1995, 44 U.S.C. Chapter 35, as amended; 49 U.S.C. 13901, 13902, 13903, 13904 and 13906; and 49 CFR 1.73.

Issued on: November 2, 2005.
Annette M. Sandberg,
Administrator.

[FR Doc. 05-22394 Filed 11-9-05; 8:45 am]

BILLING CODE 4910-EX-P